OFFICE OF SCIENCE AND TECHNOLOGY POLICY

National Science and Technology Council

Notice of Public Meetings: Public Meetings of the National Science and Technology Council; Committee on Technology; Nanoscale Science, Engineering, and Technology Subcommittee; National Nanotechnology Coordination Office

ACTION: Notice of public meetings.

SUMMARY: The National Nanotechnology Coordination Office (NNCO), on behalf of the Nanoscale Science, Engineering, and Technology (NSET) Subcommittee of the Committee on Technology, National Science and Technology Council (NSTC) and in collaboration with the European Commission, will hold the 2015 “EU-U.S.: Bridging NanoEHS Research Efforts” joint workshop on March 12-13, 2015, in Venice, Italy. The workshop will bring together the U.S.-EU Communities of Research (CORs), which serve as a platform for U.S. and EU scientists to share information on nanoEHS research. The six Communities were established in 2012 and are listed below. This workshop—the 4th since 2011—is intended to further develop and support the CORs' activities.

• Exposure through the Life Cycle, with Material Characterization.

• Ecotoxicity Testing and Predictive Models, with Material Characterization.

• Predictive Modeling for Human Health, with Material Characterization.

• Databases and Ontologies.

• Risk Assessment.

• Risk Management and Control.

DATES: Thursday, March 12, 2015, from 8:30 a.m. until 6:00 p.m. and Friday, March 13, 2015, from 8:30 a.m. until 3:30 p.m.

ADDRESSES: The workshop will be held at Ca' Foscari University of Venice at Dorsoduro 3689—30123 in Venice, Italy.

FOR FURTHER INFORMATION CONTACT: For information regarding this Notice, please contact Stacey Standridge at National Nanotechnology Coordination Office, by telephone (703-292-8103) or email (sstandridge@nnco.nano.gov). Additional information about the workshop, including the agenda, is posted at http://us-eu.org/2015workshop/.

Registration: Due to space limitations, pre-registration for the workshop is required. Registration is on a first-come, first-served basis and will be capped at approximately 100 participants. Registration will open on Thursday, December 4, 2014. Individuals planning to attend the workshop should register online at http://www.sun-fp7.eu/events/upcoming-events/eu-us-bridging-nanoehs-research-efforts-a-joint-workshop-2015/. Written notices of participation by email should be sent to sstandridge@nnco.nano.gov or mailed to Stacey Standridge, 4201 Wilson Blvd., Stafford II, Suite 405, Arlington, VA 22230. Written notices must be received by February 15, 2015, to be considered.

Meeting Accomodations: Individuals requiring special accommodation to access this public meeting should contact Stacey Standridge (telephone 703-292-8103) at least ten business days prior to the meeting so that appropriate arrangements can be made.

Ted Wackler,
Deputy Chief of Staff and Assistant Director.

[FR Doc. 2014-28570 Filed 12-4-14; 8:45 am]

BILLING CODE 3270-F5-P